Proclamation 8821 of May 14, 2012

Peace Officers Memorial Day and Police Week, 2012

By the President of the United States of America

A Proclamation

Every day, public safety officers work tirelessly to protect our citizens, enforce our laws, and keep our neighborhoods safe. They report for duty knowing full well the dangers they face and the sacrifices they may be called upon to make. This week, we pay tribute to the thousands of men and women who serve us with extraordinary bravery, and we remember the heroes who have laid down their lives in pursuit of a safer, more just society.

While we can never fully repay them for their service, we must work to ensure our law enforcement officers are equipped with the tools and technology they need to do their jobs safely and effectively. My Administration has devoted significant resources to improving officer safety, providing bulletproof vests that have saved lives, training officers to prevent and survive potentially lethal encounters, and strengthening our ability to share information. We also continue to pursue our goal of deploying a nationwide wireless network for public safety. For the first time, this new system will give our Nation’s police officers and first responders a dedicated communication network in times of crisis—helping fulfill our promise to provide these brave men and women with tools worthy of the sacrifices they make on our behalf.

We owe a profound debt to all those who have worn the badge, and to the families whose care enables them to serve with courage and pride. When the unthinkable happens and officers give their lives or are seriously injured in the line of duty, we have an obligation to give their loved ones the support they deserve. During Peace Officers Memorial Day and Police Week, we recall the selflessness of our law enforcement officers and their families, and we honor all those who devote their lives to forging a stronger, safer America. Let us reflect on their invaluable contributions as we enjoy the peace they bring to our communities, and let us vow that their service will never be taken for granted.

By a joint resolution approved October 1, 1962, as amended (76 Stat. 676), and by Public Law 103-322, as amended (36 U.S.C. 136-137), the President has been authorized and requested to designate May 15 of each year as “Peace Officers Memorial Day” and the week in which it falls as “Police Week.”

NOW, THEREFORE, I, BARACK OBAMA, President of the United States of America, do hereby proclaim May 15, 2012, as Peace Officers Memorial Day and May 13 through May 19, 2012, as Police Week. I call upon all Americans to observe these events with appropriate ceremonies and activities. I also call on Governors of the United States and the Commonwealth of Puerto Rico, officials of the other territories subject to the jurisdiction of the United States, and appropriate officials of all units of government, to direct that the flag be flown at half-staff on Peace Officers Memorial Day. I further encourage all Americans to display the flag at half-staff from their homes and businesses on that day.

IN WITNESS WHEREOF, I have hereunto set my hand this fourteenth day of May, in the year of our Lord two thousand twelve, and of the Independence of the United States of America the two hundred and thirty-sixth.

[FR Doc. 2012-12223

Filed 5-17-12; 8:45 am]

Billing code 3295-F2-P